DEPARTMENT OF COMMERCE

National Oceanic and Atmospheric Administration

RIN 0648-XE226

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Summer Flounder, Scup, and Black Sea Bass Advisory Panel will hold a public meeting.

DATES: The meeting will be held on Thursday, October 22, 2015, from 2 p.m. until 5 p.m.

ADDRESSES: The meeting will be held via webinar with a telephone-only connection option. Details on webinar registration and telephone-only connection details will be available at: http://www.mafmc.org.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The Council's Summer Flounder, Scup, and Black Sea Bass Advisory Panel (AP) will meet jointly with the Atlantic States Marine Fisheries Commission's (ASMFC's) Summer Flounder, Scup, and Black Sea Bass AP. The purpose of this meeting is to solicit advisor input on specific commercial management measures for summer flounder, scup, and black sea bass. These include, but are not limited to, the commercial minimum fish size, trawl mesh size requirements, seasonal possession limits triggering the minimum mesh size requirements (i.e., incidental possession limits), other possession limits, other gear requirements, and exemption programs for all three species. The Council and the ASMFC will consider the input from the AP in December when reviewing recommendations on commercial measures from the Summer Flounder, Scup, and Black Sea Bass Monitoring and Technical Committees.

Special Accommodations

The meeting is physically accessible to people with disabilities. Requests for sign language interpretation or other auxiliary aid should be directed to M. Jan Saunders, (302) 526-5251, at least 5 days prior to the meeting date.

Dated: September 30, 2015.
Tracey L. Thompson,
Acting Deputy Director, Office of Sustainable Fisheries, National Marine Fisheries Service.

[FR Doc. 2015-25239 Filed 10-2-15; 8:45 am]

BILLING CODE 3510-22-P